DEPARTMENT OF AGRICULTURE

Animal and Plant Health Inspection Service

[Docket No. APHIS-2009-0025]

Secretary’s Advisory Committee on Animal Health; Notice of Solicitation for Membership

AGENCY: Animal and Plant Health Inspection Service, USDA.

ACTION: Notice of solicitation for membership.

SUMMARY: We are giving notice that the Secretary has established the Advisory Committee on Animal Health for a 2-year period. The Secretary is soliciting nominations for membership for this Committee.

DATES: Consideration will be given to nominations received on or before August 2, 2010.

ADDRESSES: Nominations should be addressed to the person listed under FOR FURTHER INFORMATION CONTACT.

FOR FURTHER INFORMATION CONTACT: Mr. Michael R. Doerrer, Chief Operating Officer, Veterinary Services, APHIS, 4700 River Road Unit 58, Riverdale, MD 20737; (301) 734-5034; (Michael.R.Doerrer@aphis.usda.gov).

SUPPLEMENTARY INFORMATION: The purpose of the Secretary’s Advisory Committee on Animal Health (the Committee) is to advise the Secretary of Agriculture on means to prevent, conduct surveillance, monitor, control, or eradicate animal diseases of national importance. In doing so, the committee will consider public health, conservation of natural resources, and the stability of livestock economies.

The Designated Federal Official shall select a Chairperson and Vice Chair upon consultation with the members of the committee. We are soliciting nominations from interested organizations and individuals. An organization may nominate individuals from within or outside its membership.

Appointments to the Committee will be made by the Secretary of Agriculture. Equal opportunity practices, consistent with USDA policies, will be followed in making all appointments to the Committee. To ensure that recommendations of the Committee have taken into account the needs of the diverse groups served by the Department, membership shall include, to the extent practicable, individuals with demonstrated ability to represent minorities, women and persons with disabilities.

Done in Washington, DC, this 11th day of June 2010.

Kevin Shea,
Acting Administrator, Animal and Plant Health Inspection Service.

[FR Doc. 2010-14660 Filed 6-16-10; 8:45 am]

BILLING CODE 3410-34-S